DEPARTMENT OF LABOR

Employment and Training Administration

[TA-W-61,821]

Hanes Brands Incorporated, Forest City, NC; Notice of Negative Determination Regarding Application for Reconsideration

By application of August 27, 2007, a petitioner requested administrative reconsideration of the Department's negative determination regarding eligibility for workers and former workers of the subject firm to apply for Trade Adjustment Assistance (TAA). The denial notice was signed on July 25, 2007 and published in the Federal Register on August 9, 2007 (72 FR 44866).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition filed on behalf of workers at Hanes Brands Incorporated, Forest City, North Carolina engaged in the production of fleece and Jersey fabric, was denied based on the findings that during the relevant time period, the subject company did not separate or threaten to separate a significant number or proportion of workers, as required by Section 222 of the Trade Act of 1974.

In the request for reconsideration, the petitioner states that there was a significant decrease in employment at the subject firm in the past few years and that the subject firm replaces workers who have left the company by temporary labor.

The company official was contacted to verify employment numbers at the subject firm. When assessing eligibility for TAA, the Department exclusively considers the relevant employment data (for one year prior to the date of the petition and any imminent layoffs) for the facility where the petitioning worker group was employed. The company official confirmed what was established during the initial investigation. Production and salaried worker employment at the subject firm has increased from 2005 to 2006 and from January through June of 2007 when compared with the same period in 2006. Furthermore, the company official clarified that the subject firm does hire temporary workers in the times of increased demand. However, the employment numbers provided by the company official in the initial investigation do not reflect temporary workers.

Should conditions change in the future, the petitioner is encouraged to file a new petition on behalf of the worker group which will encompass an investigative period that will include these changing conditions.

Conclusion

After review of the application and investigative findings, I conclude that there has been no error or misinterpretation of the law or of the facts which would justify reconsideration of the Department of Labor's prior decision. Accordingly, the application is denied.

Signed at Washington, DC, this 28th day of September 2007.
Elliott S. Kushner,
Certifying Officer, Division of Trade Adjustment Assistance.

[FR Doc. E7-19726 Filed 10-4-07; 8:45 am]

BILLING CODE 4510-FN-P